DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final. The actions relate to a proposed highway project, U.S. 101 between post miles 8.2 and 8.7 in the County of Del Norte, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 17, 2018. If the Federal law that authorizes judicial review of a claim provides a time period of less than 150 days for filing such claim, then that shorter time period still applies.

FOR FURTHER INFORMATION CONTACT: Kellie Eldridge, Environmental Planner, Caltrans, 1656 Union Street, Eureka, CA 95501, kellie.eldridge@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: The Hunter and Panther Creek Bridges Seismic Restoration Project located on U.S. 101 between post miles 8.2 and 8.7 in Del Norte County, State of California, would upgrade Hunter and Panther Creek Bridges to current seismic and design standards by (1) replacing the existing three-span structure with two pier walls at Hunter Creek with a two-span structure with one pier, and (2) by replacing the existing three-span structure with two multi-columned piers at Panther Creek with a single-span, steel tied arch structure without piers. The project is expected to be completed within two years. The actions by the Federal agencies, and the laws under which such actions were taken, are described in the Final Environmental Assessment (EA) and Finding of No Significant Impact (FONSI) for the project, approved July 5, 2018, and in other documents in the Caltrans project records. The EA, FONSI, and other project records are available by contacting Caltrans at the address provided above. The Caltrans EA and FONSI can be viewed and downloaded from the project website at http://www.dot.ca.gov/dist1/d1projects/hunter_panther/.

This notice applies to all Federal agency decisions as of the issuance date of this notice and all laws under which such actions were taken, including but not limited to:

1. National Environmental Policy Act (NEPA)

2. Clean Water Act

3. Endangered Species Act

4. Migratory Bird Treaty Act

5. Magnuson-Stevens Fishery Conservation and Management Act

6. Civil Rights Act, Title VI

7. E.O. 11990 Protection of Wetlands

8. E.O. 11988 Floodplain Management

(Catalog of Federal Domestic Assistance Program Number 20.205, Highway Planning and Construction. The regulations implementing Executive Order 12372 regarding intergovernmental consultation on Federal programs and activities apply to this program.)

Authority: 23 U.S.C. 139(l)(1).

Tashia J. Clemons,
Director, Planning and Environment, Federal Highway Administration, Sacramento, California.

[FR Doc. 2018-15419 Filed 7-18-18; 8:45 am]

BILLING CODE 4910-RY-P